DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Children's Study of Environmental Effects on Health Advisory Committee.

The meeting will be open to the public, with attendance limited to space available. Individuals who plan to attend and need special assistance, such as sign language interpretation or other reasonable accommodations, should notify the Contact Person listed below in advance of the meeting.

Name of Committee: National Children's Study of Environmental Effects on Health Advisory Committee.

Date: September 15-16, 2003.

Time: September 15, 2003, 8 a.m. to 5 p.m.

Agenda: Members of the public that plan to attend should contact Circle Solutions at (703) 902-1339 or via e-mail ncs@circlesolutions.com. For Agenda updates, please visit the NCS Web site nationalchildrensstudy.gov.

Place: Holiday Inn Select Bethesda, 8120 Wisconsin Ave, Room: Versaille I, Bethesda, MD 20814.

Time: September 15, 2003, 8 a.m. to 5:30 p.m.

Agenda: Discussions will include activities presented at the June 2003 mtg; a review of all existing hypotheses for the purposes of identifying gaps and areas that require more attention; an explicit feedback will be developed on previously submitted hypotheses that will be provided to various Working Groups.

Place: Holiday Inn Select Bethesda, 8120 Wisconsin Ave, Room Versaille I, Bethesda, MD 20814.

Contact Person: Jan Leahey, Executive Secretary, National Institute of Child Health, and Human Development, NIH, 6100 Executive Boulevard, Room 7A07, Bethesda, MD 20892, (301) 435-8867, leaheyj@mail.nih.gov.

This notice is being published less than 15 days prior to the meeting due to the timing limitations imposed by the review and funding cycle.

(Catalogue of Federal Domestic Assistance Program Nos. 93.864, Population Research; 93.865, Research for Mothers and Children; 93.929, Center for Medical Rehabilitation Research; 93.209, Contraception and Infertility Loan Repayment Program, National Institutes of Health, HHS)
Dated: August 26, 2003.
LaVerne Y. Stringfield,
Director, Office of Federal Advisory Committee Policy.

[FR Doc. 03-22817 Filed 9-8-03; 8:45 am]

BILLING CODE 4140-01-M